DEPARTMENT OF TRANSPORTATION

Federal Aviation Administration

14 CFR Part 71

[Docket FAA No. FAA-2007-27911; Airspace Docket No. 07-ANM-8]

Establishment of Class E Airspace; Hailey, ID

AGENCY: Federal Aviation Administration (FAA), DOT.

ACTION: Final rule; correction.

SUMMARY: This action corrects a final rule published in the Federal Register August 30, 2007 (72 FR 50046), Airspace Docket No. 07-ANM-8, FAA Docket No. FAA-2007-27911. In that rule, an error was made in the legal description for Hailey, ID. Specifically, the longitude referencing Friedman Memorial Airport, ID stated “* * *long. 114°17′45″ W.” instead of “* * *long.114°17′44″ W.” This action corrects that error.

DATES: Effective Date: 0901 UTC, December 20, 2007. The Director of the Federal Register approves this incorporation by reference action under 1 CFR part 51, subject to the annual revision of FAA Order 7400.9 and publication of conforming amendments.

FOR FURTHER INFORMATION CONTACT: Eldon Taylor, Federal Aviation Administration, System Support Group, Western Service Area, 1601 Lind Avenue, SW., Renton, WA 98057; telephone (425) 917-6726.

SUPPLEMENTARY INFORMATION:

History

On August 30, 2007, a final rule for Airspace Docket No. 07-ANM-8, FAA Docket No. FAA-2007-27911 was published in the Federal Register (72 FR 50046), establishing Class E airspace in Hailey, ID. The longitude referencing Friedman Memorial Airport, ID was incorrect in that the longitude stated “* * *114°17′45″ W.” instead of “* * *long.114°17′44″ W.” This action corrects that error.

Correction to Final Rule

Accordingly, pursuant to the authority delegated to me, the legal description as published in the Federal Register on August 30, 2007 (72 FR 50046), Airspace Docket No. 07-ANM-8, FAA Docket No. FAA-2007-27911, and incorporated by reference in 14 CFR 71.1, is corrected as follows:

§ 71.1 [Amended]

On page 50047, correct the legal description for Hailey, ID, to read as follows:

Paragraph 6005 Class E airspace areas extending upward from 700 feet or more above the surface of the earth.

* * * * *

ANM ID, E5 Hailey, ID [Corrected]

Friedman Memorial Airport, ID

(lat. 43°30′14″ N., long. 114°17′44″ W.)

That airspace extending upward from 700 feet above the surface within a 5.5-mile radius of Friedman Memorial Airport, and within 2 miles west and 5.5 miles east of the 328° bearing from the airport extending from the 5.5-mile radius to 10 miles northwest of the airport, and within 2 miles west and 4 miles east of the 159° bearing from the airport extending from the 5.5-mile radius to 15.5 miles southeast of the airport; that airspace extending upward from 1,200 feet above the surface bounded by a line beginning at lat. 44°00′00″ N., long. 114°55′00″ W., thence to lat. 44°00′00″ N., long. 113°53′00″ W., thence to lat. 43°00′00″ N., long. 113°49′00″ W., thence to lat. 43°00′00″ N., long. 114°55′00″ W., thence to point of beginning.

* * * * *

Issued in Seattle, Washington, on October 5, 2007.
Clark Desing,
Manager, System Support Group, Western Service Center.

[FR Doc. E7-20796 Filed 10-23-07; 8:45 am]

BILLING CODE 4910-13-P